DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Council Cooperative Annual Reports.

OMB Control Number: 0648-0678.

Form Number(s): None.

Type of Request: Regular.

Number of Respondents: 19.

Average Hours Per Response: Alaska Crab Rationalization Program Cooperative Annual Report, 47 hours; Annual Rockfish Cooperative Report, 37 hours; Annual Amendment 80 Cooperative Report, 18 hours; Amendment 80 Halibut Prohibited Species Catch (PSC) Management Plan, 12.5 hours; Amendment 80 Halibut Bycatch Avoidance Progress Report, 12.5 hours; American Fisheries Act (AFA) Catcher Vessel Intercooperative Agreement, 48 hours; American Fisheries Act Annual Catcher Vessel Intercooperative Report, 40 hours; American Fisheries Act Cooperative Annual Report, 16 hours.

Burden Hours: 695.

Needs and Uses: The North Pacific Fishery Management Council (Council) has developed several cooperative programs as options in larger catch share programs for the federally managed fisheries off Alaska. As part of these cooperative programs, the Council has either recommended that the National Marine Fisheries Service (NMFS) require the cooperative managers to submit an annual written report detailing various activities of the cooperative, or the Council has requested that cooperative managers voluntarily submit an annual report to the Council. These reports are intended to be a resource for the Council and the public to track the effectiveness of the cooperative and its ability to meet the Council's goals. Additionally, they are a tool for the cooperatives to provide feedback on a catch share program and how the cooperative element is functioning.

In general, the cooperative managers present the cooperative reports during the April Council meeting. Regulations do not require cooperative managers to present cooperative reports to the Council; however, they are encouraged to do so, and this has been common practice for many cooperative representatives. Public dissemination of the annual cooperative reports and presentation of an overview of the reports at the April Council meeting each year provides stakeholders and members of the public the opportunity to provide public comment to the Council about the cooperatives and the catch share programs.

Some of the cooperative annual reports are required in Federal regulation and others are requested by the Council as a voluntary annual submission. This information collection covers both the mandatory and voluntary components of the cooperative annual reports.

This information collection contains the following reports.

• The Alaska Crab Rationalization Program Cooperative Annual Report allows the Council to determine if the cooperatives are taking adequate action to facilitate the transfer of quota share (QS) to active participants and control QS lease rates, or if potential future regulatory action may be needed to address these concerns. This report is voluntary.

• The Annual Rockfish Cooperative Report provides information to the Council and NMFS about how the catch share program and its associated cooperative elements are functioning. This is particularly important as the Council is evaluating reauthorization of the Rockfish Program in 2019 and 2020. This report is mandatory.

• The Annual Amendment 80 Cooperative Report provides information to the Council and NMFS about how the catch share program is functioning, and if potential future changes may be needed. This report is mandatory.

• The Amendment 80 Halibut Prohibited Species Catch (PSC) Management Plan informs the Council of an Amendment 80 cooperative's plan to use voluntary, non-regulatory methods to avoid halibut bycatch in the Bering Sea and Aleutian Islands (BSAI) groundfish fisheries. This report is voluntary.

• The Amendment 80 Halibut Bycatch Avoidance Progress Report allows each sector in the BSAI groundfish fisheries to inform the Council of its progress on voluntary, non-regulatory methods used within its fishery cooperatives to avoid halibut bycatch in the BSAI groundfish fisheries. This report is voluntary.

• The American Fisheries Act (AFA) Catcher Vessel Inter-cooperative Agreement provides information to NMFS, the Council, and the public about inter-cooperative fishery allocations, PSC allocations, transfers of allocations and PSC, monitoring methods, and bycatch reduction methods. This report is voluntary.

• The American Fisheries Act Annual Catcher Vessel Inter-cooperative Report provides detailed information about how sideboard limits and PSC are being used to determine if program objectives are being satisfactorily met; provides the Council and the public with a simple means of evaluating the AFA catcher vessel fleets' aggregate fishing performance under the AFA regulations; and provides a broader understanding of catcher vessel cooperative activities. This report is voluntary.

• The American Fisheries Act Cooperative Annual Report provides information to the Council about how each cooperative allocated pollock, other groundfish species, and prohibited species among the vessels in the cooperative; the catch of these species by area by each vessel in the cooperative; information about how the cooperative monitored fishing by its members; and a description of any actions taken by the cooperative to penalize vessels that exceeded the catch and prohibited species catch allocations made to the vessel by the cooperative. The purpose of this report is to provide the Council with information about the on-going operations and performance of the cooperatives on which to base its decisions about management of the Bering Sea pollock fishery. This report is mandatory.

Affected Public: Businesses or other for-profit organizations.

Frequency: Annually.

Respondent's Obligation: Reports are voluntary or mandatory as specified in each report's description above.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2019-26572 Filed 12-9-19; 8:45 am]

BILLING CODE 3510-22-P